DEPARTMENT OF TRANSPORTATION

Office of the Secretary

14 CFR Parts 255 and 399

[Docket Nos. OST-97-2881, OST-97-3014, OST-98-4775, and OST-99-5888]

RIN 2105-AC65

Computer Reservations System (CRS) Regulations; Statements of General Policy

AGENCY: Office of the Secretary, Department of Transportation.

ACTION: Notice of proposed rulemaking; correction.

SUMMARY: The Department is correcting a notice of proposed rulemaking that appeared in the Federal Register on November 15, 2002 (67 FR 69366). The notice requested comments on proposals to change the Department's existing rules on airline computer reservations systems (14 CFR part 255) and on a possible clarification of its Statements of General Policy (14 CFR part 399) on the requirements for the disclosure of service fees by travel agencies. The notice contained two language errors that misstated the reasoning underlying the Department's proposals and request for comment. This document corrects those errors.

FOR FURTHER INFORMATION CONTACT: Thomas Ray, Office of the General Counsel, 400 Seventh St., SW., Washington, DC 20590, (202) 366-4731.

SUPPLEMENTARY INFORMATION: The sentence appearing at the bottom of the middle column on 67 FR 69386 that cites Aspen Skiing Co. v. Aspen Highlands Skiing Corp., 472 U.S. 585 (1985), should have read, “A monopolist generally may not engage in conduct that is economically rational only if it eliminates competition.” The fifth sentence in the first full paragraph on 67 FR 69418 that discusses the proposed policy of requiring a separate listing of agency service fees that do not exceed a specified amount incorrectly suggested, if read out of context, that we were proposing to regulate the level of service fees. We instead are requesting comment on a proposal whereby fees below a specified level would be listed separately while fees above that level would be included in the fare amount. The sentence should therefore read, “In addition, we are imposing a limit on service fee amounts that may be listed separately to ensure that service fees are not used merely to make the advertised fare seem lower.” This latter correction is consistent with the advice previously given on our intent, as stated in the letter from Paul M. Ruden, Senior Vice President, American Society of Travel Agents, to Thomas Ray, filed in the docket for this proceeding on November 14, 2002.

Issued in Washington, DC on March 12, 2003.
Read C. Van de Water,
Assistant Secretary for Aviation and International Affairs.

[FR Doc. 03-6447 Filed 3-13-03; 1:59 pm]

BILLING CODE 4910-62-P